DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Arapahoe County, Colorado, and Incorporated Areas
Docket No.: FEMA-B-1050
Bear Gulch | Approximately 1 mile upstream of East 72nd Avenue | +5,355 | Unincorporated Areas of Arapahoe County.
| Approximately 2.1 miles upstream of the 56th Avenue alignment | +5,482
Bear Gulch Tributary | At the confluence with Bear Gulch | +5,402 | Unincorporated Areas of Arapahoe County.
| Approximately 900 feet upstream of the confluence with Bear Gulch | +5,408
Blackmer Gulch | Approximately 200 feet upstream of South Monroe Lane | +5,418 | City of Cherry Hills Village.
| Just upstream of High Line Canal | +5,491
Box Elder Creek | Approximately 1,400 feet upstream of 72nd Avenue | +5,367 | City of Aurora, Unincorporated Areas of Arapahoe County.
| Approximately 0.5 mile downstream of Yale Avenue | +5,691
Cherry Creek | Approximately 0.92 mile downstream of Arapahoe Road | +5,624 | City of Aurora, City of Centennial, Unincorporated Areas of Arapahoe County.
| Approximately 1.7 mile upstream of East Broncos Parkway | +5,713
Coyote Run | At the confluence with Box Elder Creek | +5,393 | City of Aurora, Unincorporated Areas of Arapahoe County.
| Approximately 3.8 miles upstream of East Alameda Avenue | +5,814
Goldsmith Gulch | Just upstream of East Belleview Avenue | +5,590 | City of Centennial, City of Greenwood Village, Unincorporated Areas of Arapahoe County.
| Approximately 100 feet downstream of East Arapahoe Road | +5,773
Goldsmith Gulch West Tributary | Approximately 400 feet upstream of the confluence with Goldsmith Gulch | +5,641 | City of Greenwood Village, Unincorporated Areas of Arapahoe County.
| Approximately 100 feet downstream of East Peakview Avenue | +5,738
Greenwood Gulch | Just upstream of Clarkson Street | +5,344 | City of Centennial, City of Cherry Hills Village, City of Greenwood Village.
| Just upstream of Holly Street | +5,525
Little Dry Creek | Just upstream of Clarkson Street | +5,339 | City of Centennial, City of Cherry Hills Village, City of Greenwood Village, Unincorporated Areas of Arapahoe County.
| Just downstream of South Quebec Street | +5,618
Murphy Creek | Just downstream of East Alameda Avenue | +5,523 | City of Aurora, Unincorporated Areas of Arapahoe County.
| Approximately 1,700 feet downstream of East Wheatlands Parkway | +6,011
Prentice Gulch | At the confluence with Greenwood Gulch | +5,405 | City of Greenwood Village.
| Just upstream of Holly Street | +5,525
Quincy Gulch | At the confluence with Blackmer Gulch | +5,414 | City of Cherry Hills Village.
| Approximately 300 feet upstream of High Line Canal | +5,494
SJCD 6200 | At the confluence with the South Platte River | +5,360 | City of Littleton, Unincorporated Areas of Arapahoe County.
| Approximately 400 feet downstream of South Platte Canyon Road | +5,404
Willow Creek | At the confluence with Little Dry Creek | +5,536 | Unincorporated Areas of Arapahoe County.
| Just downstream of the Englewood Dam outlet structure | +5,559
* National Geodetic Vertical Datum.
+ North American Vertical Datum.
# Depth in feet above ground.
‸ Mean Sea Level, rounded to the nearest 0.1 meter.
ADDRESSES
City of Aurora
Maps are available for inspection at 15151 East Alameda Parkway, 3rd Floor, Aurora, CO 80012.
City of Centennial
Maps are available for inspection at the Arapahoe County Department of Public Works and Development, 10730 West Briarwood Avenue, Centennial, CO 80112.
City of Cherry Hills Village
Maps are available for inspection at 2450 East Quincy Avenue, Cherry Hills Village, CO 80113.
City of Greenwood Village
Maps are available for inspection at 6060 South Quebec Street, Greenwood Village, CO 80111.
City of Littleton
Maps are available for inspection at 2255 West Berry Avenue, Littleton, CO 80165.
Unincorporated Areas of Arapahoe County
Maps are available for inspection at the Arapahoe County Department of Public Works and Development, 10730 East Briarwood Avenue, Centennial, CO 80112.
New Haven County, Connecticut (All Jurisdictions)
Docket Nos.: FEMA-B-1038 and FEMA-B-1069
Bladens River (Upper Reach) | Approximately 2,053 feet downstream of Bear Hill Road | +230 | Town of Seymour.
| Approximately 1,903 feet downstream of Bear Hill Road | +231
Branford River (Lower Reach) | Approximately 0.51 mile upstream of School Ground Road | +31 | Town of North Branford.
| Approximately 0.64 mile upstream of School Ground Road | +32
Coguinchaug River | At the county boundary | +199 | Town of Guilford.
| Approximately 26 feet upstream of the county boundary | +199
Cove River | Approximately 0.44 mile upstream of Fresh Meadow Road | +141 | Town of Orange.
| Approximately 0.58 mile upstream of Fresh Meadow Road | +146
Farm River | Approximately 700 feet downstream of West Main Street (U.S. Route 1) | +10 | Town of Branford, Town of East Haven.
| At the mouth of the Farm River | +15
Hoadley Creek | Approximately 700 feet upstream of State Route 146 | +10 | Town of Branford.
| Approximately 800 feet upstream of State Route 146 | +10
Housatonic River | Approximately 1.7 mile upstream of Merritt Parkway | +14 | City of Milford.
| Approximately 2.2 miles upstream of Merritt Parkway | +14
Mad River (Lower Reach) | Approximately 73 feet upstream of Sharon Road | +461 | City of Waterbury.
| Approximately 800 feet upstream of Sharon Road | +461
Muddy River Tributary C | Approximately 528 feet downstream of State Route 22 | +80 | Town of North Haven.
| Approximately 328 feet downstream of State Route 22 | +81
Naugatuck River | Approximately 0.65 mile downstream of the Kinneytown Dam | +40 | Town of Seymour.
| Approximately 0.53 mile downstream of the Kinneytown Dam | +43
Neck River | Just downstream of Fort Path Road | +15 | Town of Guilford, Town of Madison.
| Approximately 0.8 mile upstream of Blinn Shed Road | +143
Quinnipiac River | At the confluence with Wharton Brook | +21 | Town of North Haven.
| Just downstream of Toelles Road | +23
Wharton Brook | At the confluence with the Quinnipiac River | +21 | Town of North Haven.
| Approximately 500 feet upstream of the confluence with the Quinnipiac River | +21
Willow Brook | Approximately 400 feet upstream of the confluence with the Mill River | +114 | Town of Hamden.
| At Mount Sanford Road | +125
* National Geodetic Vertical Datum.
+ North American Vertical Datum.
# Depth in feet above ground.
‸ Mean Sea Level, rounded to the nearest 0.1 meter.
ADDRESSES
City of Milford
Maps are available for inspection at the Planning and Zoning Office, 70 West River Street, Milford, CT 06460.
City of Waterbury
Maps are available for inspection at the Public Works Department, 26 Kendrick Avenue, 2nd Floor, Waterbury, CT 06702.
Town of Branford
Maps are available for inspection at the Town Hall, 1019 Main Street, Branford, CT 06405.
Town of East Haven
Maps are available for inspection at the East Haven Town Engineering Office, 461 North High Street, East Haven, CT 06512.
Town of Guilford
Maps are available for inspection at the Town Hall South, 50 Boston Street, Guilford, CT 06437.
Town of Hamden
Maps are available for inspection at the Hamden Town Planning and Zoning Department, 2750 Dixwell Avenue, Hamden, CT 06518.
Town of Madison
Maps are available for inspection at the Town Hall, 8 Campus Drive, Madison, CT 06443.
Town of North Branford
Maps are available for inspection at the Town Hall, 909 Foxon Road, North Branford, CT 06471.
Town of North Haven
Maps are available for inspection at the North Haven Town Hall Annex, 18 Church Street, North Haven, CT 06473.
Town of Orange
Maps are available for inspection at the Town Hall, 617 Orange Center Road, Orange, CT 06477.
Town of Seymour
Maps are available for inspection at the Town Hall, 1 1st Street, Seymour, CT 06483.
Holmes County, Florida, and Incorporated Areas
Docket No.: FEMA-B-1071
Bay Branch | Approximately 1,922 feet upstream of the confluence with West Pittman Creek | +80 | Unincorporated Areas of Holmes County.
| Approximately 1.5 mile upstream of the confluence with West Pittman Creek | +80
Blue Creek | Just downstream of Valee Road | +74 | Unincorporated Areas of Holmes County.
| Approximately 1.9 mile upstream of Jack Johnson Road | +88
Camp Branch | Approximately 670 feet downstream of Bonifay Chipley Road | +87 | City of Bonifay, Unincorporated Areas of Holmes County.
| Approximately 364 feet upstream of North Waukesha Street | +122
Camp Branch Tributary 1 | Approximately 1,216 feet downstream of Joe White Road | +87 | City of Bonifay, Unincorporated Areas of Holmes County.
| Approximately 1,047 feet upstream of Industrial Drive | +124
Caney Branch | Approximately 1,725 feet upstream of the confluence with Wrights Creek | +68 | Unincorporated Areas of Holmes County.
| Approximately 0.9 mile upstream of the confluence with Wrights Creek | +68
Cow Branch | Approximately 1,232 feet downstream of Ammons Road | +70 | Town of Ponce De Leon, Unincorporated Areas of Holmes County.
| Approximately 0.4 mile upstream of Grant Road | +92
Cow Branch Tributary 1 | At the confluence with Cow Branch | +82 | Town of Ponce De Leon, Unincorporated Areas of Holmes County.
| Approximately 0.7 mile upstream of Grant Road | +153
Hathaway Mill Creek | Just downstream of Hathaway Mill Road | +63 | Unincorporated Areas of Holmes County.
| Approximately 0.4 mile upstream of Hathaway Mill Road | +63
Merrill Branch | At the confluence with Bay Branch | +80 | Unincorporated Areas of Holmes County.
| Approximately 0.8 mile upstream of the confluence with Bay Branch | +80
Mill Creek | Approximately 1,492 feet downstream of Jack Brown Drive | +59 | Town of Ponce De Leon, Unincorporated Areas of Holmes County.
| Approximately 735 feet downstream of Jack Brown Drive | +76
Old Creek | Just downstream of R.M. Ward Road | +59 | Town of Westville.
| Approximately 0.6 mile upstream of R.M Ward Road | +59
Parrot Creek | Just upstream of Rum Road | +88 | Unincorporated Areas of Holmes County.
| At the confluence with Hand Branch | +88
Sandy Creek | Approximately 200 feet downstream of County Road 81A | +84 | Unincorporated Areas of Holmes County.
| Approximately 1.5 mile upstream of County Road 183A | +102
Unnamed Tributary to Bay Branch | At the confluence with Bay Branch | +80 | Unincorporated Areas of Holmes County.
| Approximately 0.8 mile upstream of the confluence with Bay Branch | +80
West Pittman Creek | Just downstream of County Road 179A | +80 | Unincorporated Areas of Holmes County.
| Approximately 1,454 feet upstream of County Road 179A | +80
Wrights Creek | Just downstream of Adolph Whitaker Road | +88 | Unincorporated Areas of Holmes County.
| Approximately 1.9 mile upstream of Bush Road | +148
* National Geodetic Vertical Datum.
+ North American Vertical Datum.
# Depth in feet above ground.
‸ Mean Sea Level, rounded to the nearest 0.1 meter.
ADDRESSES
City of Bonifay
Maps are available for inspection at City Hall, 301 J. Harvey Ethridge Street, Bonifay, FL 32425.
Town of Ponce De Leon
Maps are available for inspection at the Town Hall, 1580 U.S. Route 90, Ponce de Leon, FL 32455.
Town of Westville
Maps are available for inspection at the Town Hall, 2523 North Pine Street, Westville, FL 32464.
Unincorporated Areas of Holmes County
Maps are available for inspection at the Holmes County Chamber of Commerce, 106 East Byrd Avenue, Bonifay, FL 32425.
Jackson County, Florida, and Incorporated Areas
Docket No.: FEMA-B-1078
Buck Pelt Creek | Just upstream of Fillmore Drive | +83 | Unincorporated Areas of Jackson County.
| Approximately 0.4 mile upstream of State Road 73 | +137
Chipola River | Approximately 1,450 feet upstream of County Road 162 | +88 | Unincorporated Areas of Jackson County.
| At the confluence with Marshall Creek | +93
Chipola River Tributary 7 | Approximately 0.4 mile downstream of Jefferson Street | +83 | City of Marianna, Unincorporated Areas of Jackson County.
| Approximately 1.6 mile upstream of Penn Avenue | +134
Dry Creek | Approximately 2.7 miles upstream of the confluence with the Chipola River | +74 | Unincorporated Areas of Jackson County.
| Just downstream of Mill Road | +97
Dry Creek Tributary 11 | At the confluence with Dry Creek | +74 | Unincorporated Areas of Jackson County.
| Approximately 1.5 mile upstream of the confluence with Dry Creek | +74
Little Creek | Just downstream of Ezell Road | +147 | Unincorporated Areas of Jackson County.
| Approximately 590 feet downstream of Ezell Road | +147
Long Branch | At the confluence with Dry Creek | +74 | Unincorporated Areas of Jackson County.
| Approximately 0.8 mile upstream of I-10 | +132
Long Branch Tributary 2 | At the confluence with Long Branch | +78 | Unincorporated Areas of Jackson County.
| Approximately 0.7 mile upstream of the confluence with Long Branch | +98
Long Branch Tributary 3 | At the confluence with Long Branch | +87 | Unincorporated Areas of Jackson County.
| Approximately 1.3 mile upstream of Thompson Road | +129
Unnamed Stream 59 | At the confluence with Unnamed Stream 59-1 | +77 | Unincorporated Areas of Jackson County.
| Approximately 1.1 mile upstream of the confluence with Unnamed Stream 59-1 | +96
Unnamed Stream 59-1 | At the confluence with Unnamed Stream 59 | +77 | Unincorporated Areas of Jackson County.
| Approximately 0.5 mile upstream of Bright Prospect Road | +108
* National Geodetic Vertical Datum.
+ North American Vertical Datum.
# Depth in feet above ground.
‸ Mean Sea Level, rounded to the nearest 0.1 meter.
ADDRESSES
City of Marianna
Maps are available for inspection at City Hall, 2898 Green Street, Marianna, FL 32446.
Unincorporated Areas of Jackson County
Maps are available for inspection at the Jackson County Chamber of Commerce, 4318 Lafayette Street, Marianna, FL 32446.
Appling County, Georgia, and Incorporated Areas
Docket No.: FEMA-B-1080
Sweet Water Creek | Approximately 400 feet upstream of Satilla Church Road | +166 | City of Baxley.
| Approximately 0.97 mile upstream of Satilla Church Road | +169
Tributary B | Approximately 150 feet upstream of the confluence with Sweet Water Creek | +169 | City of Baxley.
| Approximately 150 feet downstream of State Route 15 | +194
* National Geodetic Vertical Datum.
+ North American Vertical Datum.
# Depth in feet above ground.
‸ Mean Sea Level, rounded to the nearest 0.1 meter.
ADDRESSES
City of Baxley
Maps are available for inspection at 282 East Parker Street, Baxley, GA 31513.
Bacon County, Georgia, and Incorporated Areas
Docket No.: FEMA-B-1078
Hurricane Creek | Approximately 1,650 feet upstream of State Route 32 | +143 | Unincorporated Areas of Bacon County.
| Approximately 575 feet upstream of U.S. Route 1 | +149
* National Geodetic Vertical Datum.
+ North American Vertical Datum.
# Depth in feet above ground.
‸ Mean Sea Level, rounded to the nearest 0.1 meter.
ADDRESSES
Unincorporated Areas of Bacon County
Maps are available for inspection at 502 West 12th Street, Alma, GA 31510.
Baldwin County, Georgia, and Incorporated Areas
Docket No.: FEMA-B-1078
Fishing Creek | Approximately 0.4 mile downstream of U.S. Route 441 | +276 | City of Milledgeville.
| Approximately 1.9 mile upstream of Blandy Road | +297
Fishing Creek (backwater effects) | Approximately 0.5 mile southwest of Blandy Road and the railroad | +289 | Unincorporated Areas of Baldwin County.
* National Geodetic Vertical Datum.
+ North American Vertical Datum.
# Depth in feet above ground.
‸ Mean Sea Level, rounded to the nearest 0.1 meter.
ADDRESSES
City of Milledgeville
Maps are available for inspection at the Water Department, 119 East Hancock Street, Milledgeville, GA 31061.
Unincorporated Areas of Baldwin County
Maps are available for inspection at the Baldwin County Commissioner's Office, 121 North Wilkinson Street, Suite 314, Milledgeville, GA 31061.
Burke County, Georgia, and Incorporated Areas
Docket No.: FEMA-B-1080
McIntosh Creek | Approximately 260 feet downstream of State Route 121 | +210 | City of Waynesboro.
| Approximately 420 feet upstream of State Route 121 | +213
Savannah River | Approximately 1.54 mile downstream of the confluence with McBean Creek | +107 | Unincorporated Areas of Burke County.
| Approximately 6.84 miles upstream of the confluence with McBean Creek | +112
* National Geodetic Vertical Datum.
+ North American Vertical Datum.
# Depth in feet above ground.
‸ Mean Sea Level, rounded to the nearest 0.1 meter.
ADDRESSES
City of Waynesboro
Maps are available for inspection at 628 Myrick Street, Waynesboro, GA 30830.
Unincorporated Areas of Burke County
Maps are available for inspection at 602 North Liberty Street, Waynesboro, GA 30830.
Candler County, Georgia, and Incorporated Areas
Docket No.: FEMA-B-1078
Lotts Creek | At the Bulloch County boundary | +165 | Unincorporated Areas of Candler County.
| Approximately 300 feet upstream of the Bulloch County boundary | +165
* National Geodetic Vertical Datum.
+ North American Vertical Datum.
# Depth in feet above ground.
‸ Mean Sea Level, rounded to the nearest 0.1 meter.
ADDRESSES
Unincorporated Areas of Candler County
Maps are available for inspection at the Candler County Courthouse, 705 North Lewis Street, Metter, GA 30439.
Effingham County, Georgia, and Incorporated Areas
Docket No.: FEMA-B-1080
Dasher Creek | Approximately 0.51 mile upstream of North Carolina Avenue | +47 | City of Rincon, Unincorporated Areas of Effingham County.
| Approximately 2.14 miles upstream of McCall Road | +62
Sweigoffer Creek | Approximately 90 feet upstream of Seaboard Coast Line Railroad | +39 | Unincorporated Areas of Effingham County.
| Approximately 0.91 mile upstream of Georgia Southern Railway | +57
* National Geodetic Vertical Datum.
+ North American Vertical Datum.
# Depth in feet above ground.
‸ Mean Sea Level, rounded to the nearest 0.1 meter.
ADDRESSES
City of Rincon
Maps are available for inspection at 302 South Columbia Avenue, Rincon, GA 31326.
Unincorporated Areas of Effingham County
Maps are available for inspection at 601 North Laurel Street, Springfield, GA 31329.
Emanuel County, Georgia, and Incorporated Areas
Docket No.: FEMA-B-1080
Crooked Creek | Approximately 200 feet downstream of Old Nunez Road | +200 | Unincorporated Areas of Emanuel County.
| Approximately 1,400 feet downstream of Meadowlake Parkway | +241
Holloway Pond/Yam Grandy Creek Tributary | Entire shoreline of Holloway Pond | +251 | Unincorporated Areas of Emanuel County.
* National Geodetic Vertical Datum.
+ North American Vertical Datum.
# Depth in feet above ground.
‸ Mean Sea Level, rounded to the nearest 0.1 meter.
ADDRESSES
Unincorporated Areas of Emanuel County
Maps are available for inspection at 101 North Main Street, Swainsboro, GA 30401.
Greene County, Georgia, and Incorporated Areas
Docket No.: FEMA-B-1076
Oconee River | Approximately 0.79 mile downstream of the Oglethorpe County boundary | +459 | Unincorporated Areas of Greene County.
| At the Oglethorpe County boundary | +462
* National Geodetic Vertical Datum.
+ North American Vertical Datum.
# Depth in feet above ground.
‸ Mean Sea Level, rounded to the nearest 0.1 meter.
ADDRESSES
Unincorporated Areas of Greene County
Maps are available for inspection at the Greene County Administration Building, 1034 Silver Drive, Suite 104, Greensboro, GA 30642.
Jackson County, Georgia, and Incorporated Areas
Docket No.: FEMA-B-1078
Middle Oconee River | At the downstream Athens-Clarke County boundary | +621 | Unincorporated Areas of Jackson County.
| Just downstream of State Route 330 | +651
Mulberry River | Approximately 0.54 mile southwest of the intersection of Etheridge Road and Cedar Grove Church Road | +696 | Unincorporated Areas of Jackson County.
| Approximately 0.86 mile southwest of the intersection of Etheridge Road and Cedar Grove Church Road | +701
Walton Creek | At the downstream Athens-Clarke County boundary | +651 | Unincorporated Areas of Jackson County.
| At the upstream Athens-Clarke County boundary | +656
* National Geodetic Vertical Datum.
+ North American Vertical Datum.
# Depth in feet above ground.
‸ Mean Sea Level, rounded to the nearest 0.1 meter.
ADDRESSES
Unincorporated Areas of Jackson County
Maps are available for inspection at the Jackson County Administration Building, 67 Athens Street, Jefferson, GA 30549.
Lanier County, Georgia, and Incorporated Areas
Docket No.: FEMA-B-1078
Big Creek | Approximately 1,700 feet downstream of East Main Street | +159 | Unincorporated Areas of Lanier County.
| Approximately 1,550 feet upstream of East Main Street | +159
| Approximately 2,990 feet upstream of Brantley Street (State Route 135) | +167
| Approximately 3,150 feet upstream of Brantley Street (State Route 135) | +167
Mill Creek | Approximately 4,000 feet upstream of North Pecan Street | +176 | Unincorporated Areas of Lanier County.
| Approximately 4,090 feet upstream of North Pecan Street | +176
* National Geodetic Vertical Datum.
+ North American Vertical Datum.
# Depth in feet above ground.
‸ Mean Sea Level, rounded to the nearest 0.1 meter.
ADDRESSES
Unincorporated Areas of Lanier County
Maps are available for inspection at the Lanier County Courthouse, 100 Main Street, Lakeland, GA 31635.
Laurens County, Georgia, and Incorporated Areas
Docket No.: FEMA-B-1078
Ford Branch | Approximately 400 feet upstream of Shamrock Drive | +205 | Unincorporated Areas of Laurens County.
| Approximately 1,170 feet upstream of Shamrock Drive | +206
Hunger and Hardship Creek | At the confluence with the Oconee River | +181 | Unincorporated Areas of Laurens County.
| Approximately 79 feet upstream of Parker Dairy Road | +182
Long Branch | At the confluence with the Oconee River | +176 | Unincorporated Areas of Laurens County.
| Approximately 1,880 feet upstream of Brown Road | +220
Oconee River | At the confluence with Long Branch | +176 | Town of East Dublin, Unincorporated Areas of Laurens County.
| At the confluence with Hunger and Hardship Creek | +181
* National Geodetic Vertical Datum.
+ North American Vertical Datum.
# Depth in feet above ground.
‸ Mean Sea Level, rounded to the nearest 0.1 meter.
ADDRESSES
Town of East Dublin
Maps are available for inspection at 116 Savannah Avenue, East Dublin, GA 31027.
Unincorporated Areas of Laurens County
Maps are available for inspection at 101 East Jackson Street, Dublin, GA 31021.
Oglethorpe County, Georgia, and Incorporated Areas
Docket No.: FEMA-B-1083
Oconee River | At the confluence with Falling Creek | +461 | Unincorporated Areas of Oglethorpe County.
| Approximately 0.4 mile upstream of the county boundary | +477
* National Geodetic Vertical Datum.
+ North American Vertical Datum.
# Depth in feet above ground.
‸ Mean Sea Level, rounded to the nearest 0.1 meter.
ADDRESSES
Unincorporated Areas of Oglethorpe County
Maps are available for inspection at the Oglethorpe County Board of Commissioners Office, 341 West Main Street, Lexington, GA 30648.
Tattnall County, Georgia, and Incorporated Areas
Docket No.: FEMA-B-1080
Ohoopee River | At Georgia Central Railroad | +109 | Unincorporated Areas of Tattnall County.
| Approximately 2.66 miles upstream of State Route 292 (6th Avenue) | +118
* National Geodetic Vertical Datum.
+ North American Vertical Datum.
# Depth in feet above ground.
‸ Mean Sea Level, rounded to the nearest 0.1 meter.
ADDRESSES
Unincorporated Areas of Tattnall County
Maps are available for inspection at the Tattnall County Courthouse, 108 West Brazell Street, Reidsville, GA 30453.
Twiggs County, Georgia, and Incorporated Areas
Docket No.: FEMA-B-1076
Ocmulgee River | Approximately 0.5 mile southwest of the intersection of Alfred Bond Drive and Cochran Short Route | +277 | Unincorporated Areas of Twiggs County.
| Approximately 1.3 mile northwest of the intersection of Alfred Bond Drive and Cochran Short Route | +278
Stone Creek | Approximately 600 feet downstream of the downstream-most Bibb County boundary | +357 | Unincorporated Areas of Twiggs County.
| Approximately 300 feet upstream of the upstream-most Bibb County boundary | +373
* National Geodetic Vertical Datum.
+ North American Vertical Datum.
# Depth in feet above ground.
‸ Mean Sea Level, rounded to the nearest 0.1 meter.
ADDRESSES
Unincorporated Areas of Twiggs County
Maps are available for inspection at the Twiggs County Courthouse, 425 Railroad Street North, Jeffersonville, GA 31044.
Wayne County, Georgia, and Incorporated Areas
Docket No.: FEMA-B-1078
Little McMillen Creek | Approximately 2,800 feet upstream of Bethlehem Road | +48 | City of Jesup.
| Approximately 3,050 feet downstream of Grantham Road | +49
* National Geodetic Vertical Datum.
+ North American Vertical Datum.
# Depth in feet above ground.
‸ Mean Sea Level, rounded to the nearest 0.1 meter.
ADDRESSES
City of Jesup
Maps are available for inspection at City Hall, 162 East Cherry Street, Jesup, GA 31546.
Wilkinson County, Georgia, and Incorporated Areas
Docket No.: FEMA-B-1083
Little Commissioner Creek | Approximately 0.4 mile upstream of State Route 18 | +332 | Unincorporated Areas of Wilkinson County.
| Approximately 0.5 mile upstream of State Route 18 | +332
* National Geodetic Vertical Datum.
+ North American Vertical Datum.
# Depth in feet above ground.
‸ Mean Sea Level, rounded to the nearest 0.1 meter.
ADDRESSES
Unincorporated Areas of Wilkinson County
Maps are available for inspection at the Wilkinson County Courthouse, 100 Bacon Street, Irwinton, GA 31042.
Calhoun County, Illinois, and Incorporated Areas
Docket No.: FEMA-B-1080
Illinois River | Approximately at Springfield Street extended (Jersey County boundary, approximately River Mile 1.2) | +439 | Unincorporated Areas of Calhoun County, Village of Hardin, Village of Kampsville.
| Approximately 1,500 feet downstream of Bee Creek Road extended (Pike County boundary, approximately River Mile 38.9) | +441
Mississippi River | Approximately at Springfield Street extended (Jersey County boundary, approximately River Mile 219.15) | +439 | Unincorporated Areas of Calhoun County, Village of Hamburg.
| Approximately 1.0 mile upstream of Lock and Dam No. 24 (approximately River Mile 274.43) | +457
Pohlman Creek | Approximately 75 feet downstream of Main Street (Village of Brussels) | +454 | Unincorporated Areas of Calhoun County.
| Approximately 20 feet upstream of Main Street (Village of Brussels) | +456
* National Geodetic Vertical Datum.
+ North American Vertical Datum.
# Depth in feet above ground.
‸ Mean Sea Level, rounded to the nearest 0.1 meter.
ADDRESSES
Unincorporated Areas of Calhoun County
Maps are available for inspection at the Calhoun County Courthouse, 102 South County Road, Hardin, IL 62047.
Village of Hamburg
Maps are available for inspection at the Village Hall, 211 Washington Street, Hamburg, IL 62045.
Village of Hardin
Maps are available for inspection at the Village Hall, 100 Main Street, Hardin, IL 62047.
Village of Kampsville
Maps are available for inspection at the Village Hall, 210 Oak Street, Kampsville, IL 62053.
Carroll County, Illinois, and Incorporated Areas
Docket Nos.: FEMA-B-1054 and FEMA-B-1078
Lake Carroll | Bounded by the Lake Carroll Boulevard loop | +746 | Unincorporated Areas of Carroll County.
Mississippi River | Approximately 1.1 mile downstream of Fairhaven Road extended (approximately 524.8 miles upstream of the confluence with the Ohio River) | +593 | Unincorporated Areas of Carroll County.
| Approximately 500 feet upstream of Fairhaven Road extended (approximately 526 miles upstream of the confluence with the Ohio River) | +593
Mississippi River | Approximately at Birch Road extended (approximately 526.6 miles upstream of the confluence with the Ohio River) | +594 | Village of Thomson.
| Approximately at Main Street extended (approximately 527 miles upstream of the confluence with the Ohio River) | +594
* National Geodetic Vertical Datum.
+ North American Vertical Datum.
# Depth in feet above ground.
‸ Mean Sea Level, rounded to the nearest 0.1 meter.
ADDRESSES
Unincorporated Areas of Carroll County
Maps are available for inspection at the Carroll County Courthouse, 301 North Main Street, Mount Carroll, IL 61053.
Village of Thomson
Maps are available for inspection at the Village Hall, 800 Main Street, Thomson, IL 61285.
Ogle County, Illinois, and Incorporated Areas
Docket No.: FEMA-B-1078
Kyle River | Approximately 525 feet upstream of Jack Dame Drive | +773 | City of Rochelle, Unincorporated Areas of Ogle County.
| Approximately 120 feet downstream of Treatment Plant Road | +777
Lake Mistake Drain | Just above the confluence with Gale Creek (at the railroad) | +703 | Unincorporated Areas of Ogle County.
| Approximately 0.68 mile upstream of Pines Road | +703
Rock River | Approximately 0.97 mile downstream of State Route 64 | +672 | City of Oregon.
| Approximately 0.89 mile upstream of State Route 64 | +677
Rock River | Approximately 0.61 mile downstream of the confluence with Stillman Creek | +686 | City of Byron.
| Approximately 500 feet upstream of the confluence with Stillman Creek | +686
South Branch Kishwaukee River | Upstream side of East Edison Road | +733 | Unincorporated Areas of Ogle County.
| Approximately 1,200 feet upstream of East Line Road | +733
* National Geodetic Vertical Datum.
+ North American Vertical Datum.
# Depth in feet above ground.
‸ Mean Sea Level, rounded to the nearest 0.1 meter.
ADDRESSES
City of Byron
Maps are available for inspection at City Hall, 232 West 2nd Street, Byron, IL 61010.
City of Oregon
Maps are available for inspection at City Hall, 115 North 3rd Street, Oregon, IL 61061.
City of Rochelle
Maps are available for inspection at City Hall, 420 North 6th Street, Rochelle, IL 61068.
Unincorporated Areas of Ogle County
Maps are available for inspection at the Ogle County Zoning Administrator's Office, Ogle County Courthouse Annex, 106 South 5th Street, Oregon, IL 61061.
Monroe County, Indiana, and Incorporated Areas
Docket No.: FEMA-B-1029
Beanblossom Creek | Approximately 14,256 feet downstream of Pike Road | +580 | Unincorporated Areas of Monroe County.
| At Old State Road 37 | +599
Clear Creek | Approximately 400 feet downstream of Dillman Road | +616 | City of Bloomington, Unincorporated Areas of Monroe County.
| Approximately 350 feet upstream of 1st Street | +731
East Branch Jackson Creek | At the confluence with Jackson Creek | +739 | City of Bloomington.
| Approximately 520 feet upstream of the confluence with Jackson Creek | +739
East Fork Jackson Creek | Approximately 100 feet upstream of Moores Pike | +822 | City of Bloomington.
| Approximately 400 feet upstream of Moores Pike | +822
Griffy Creek | Approximately 430 feet upstream of North Dunn Street | +602 | City of Bloomington.
| Approximately 2,760 feet upstream of North Headly Road | +602
Jacks Defeat Creek | Approximately 400 feet upstream of the confluence with Beanblossom Creek | +563 | Town of Ellettsville, Town of Stinesville, Unincorporated Areas of Monroe County.
| Approximately 550 feet downstream of Harrison Road | +706
Jackson Creek | At the confluence with Clear Creek | +634 | City of Bloomington, Unincorporated Areas of Monroe County.
| Approximately 1,120 feet upstream of Buick Cadillac Boulevard | +772
Sinking Creek | At West 3rd Street | +855 | City of Bloomington.
| Approximately 420 feet upstream of West 3rd Street | +855
Stout Creek | At the confluence with Beanblossom Creek | +581 | Unincorporated Areas of Monroe County.
| Approximately 7,000 feet upstream of the confluence with Beanblossom Creek | +584
West Branch Jackson Creek | At the confluence with Jackson Creek | +739 | City of Bloomington.
| Approximately 220 feet upstream of Convenanter Drive | +796
West Fork Clear Creek | At the confluence with Clear Creek | +648 | City of Bloomington, Unincorporated Areas of Monroe County.
| Approximately 1,780 feet upstream of Sudburg Lane | +737
* National Geodetic Vertical Datum.
+ North American Vertical Datum.
# Depth in feet above ground.
‸ Mean Sea Level, rounded to the nearest 0.1 meter.
ADDRESSES
City of Bloomington
Maps are available for inspection at City Hall, 401 North Morton Street, Bloomington, IN 47404.
Town of Ellettsville
Maps are available for inspection at the Town Hall, 221 North Sale Street, Ellettsville, IN 47429.
Town of Stinesville
Maps are available for inspection at the Town Hall, 7835 West Buskirk Street, Stinesville, IN 47464.
Unincorporated Areas of Monroe County
Maps are available for inspection at the Monroe County Courthouse, Room 322, 100 West 5th Street, Bloomington, IN 47404.
Jackson County, Iowa, and Incorporated Areas
Docket No.: FEMA-B-1075
Deutel Hollow Branch 2 | At the confluence with Mill Creek | +613 | City of Bellevue.
| Approximately 170 feet upstream of Park Street | +623
Deutel Hollow Main Branch | At the confluence with Mill Creek | +614 | City of Bellevue.
| Just downstream of Maple Street | +680
Mill Creek | At the confluence with the Mississippi River | +602 | Unincorporated Areas of Jackson County.
| Approximately 0.28 mile upstream of Riverview Street | +604
| Approximately 0.74 mile downstream of State Highway 62 | +614
| Approximately 0.25 mile upstream of State Highway 62 | +629
Mississippi River | At the Clinton County boundary | +594 | Unincorporated Areas of Jackson County.
| Approximately 11 miles upstream of Lock and Dam No. 12 | +603
Prairie Creek | Approximately 150 feet downstream of South Main Street | +677 | City of Maquoketa, Unincorporated Areas of Jackson County.
| Just downstream of U.S. Route 61 | +681
* National Geodetic Vertical Datum.
+ North American Vertical Datum.
# Depth in feet above ground.
‸ Mean Sea Level, rounded to the nearest 0.1 meter.
ADDRESSES
City of Bellevue
Maps are available for inspection at 106 North 3rd Street, Bellevue, IA 52031.
City of Maquoketa
Maps are available for inspection at 201 East Pleasant Street, Maquoketa, IA 52060.
Unincorporated Areas of Jackson County
Maps are available for inspection at 201 West Platt Street, Maquoketa, IA 52060.
Republic County, Kansas, and Incorporated Areas
Docket No.: FEMA-B-1078
Republic River | Approximately 4,475 feet downstream of U.S. Route 36 | +1,434 | Unincorporated Areas of Republic County.
| Approximately 1,475 feet upstream of U.S. Route 36 | +1,438
* National Geodetic Vertical Datum.
+ North American Vertical Datum.
# Depth in feet above ground.
‸ Mean Sea Level, rounded to the nearest 0.1 meter.
ADDRESSES
Unincorporated Areas of Republic County
Maps are available for inspection at the Republic County Courthouse, 1815 M Street, Belleville, KS 66935.
Adair County, Kentucky, and Incorporated Areas
Docket No.: FEMA-B-1076
Bryant Creek (backwater effects from Green River Lake) | From the confluence with Green River Lake to approximately 1.3 mile upstream of the confluence with Green River Lake | +713 | Unincorporated Areas of Adair County.
Casey Creek (backwater effects from Green River Lake) | From the confluence with Green River Lake to approximately 3.4 miles upstream of the confluence with Green River Lake | +713 | Unincorporated Areas of Adair County.
Casey Creek Tributary 10 (backwater effects from Green River Lake) | From the confluence with Casey Creek to approximately 1.1 mile upstream of the confluence with Casey Creek | +713 | Unincorporated Areas of Adair County.
Casey Creek Tributary 8 (backwater effects from Green River Lake) | From the confluence with Casey Creek to approximately 0.6 mile upstream of the confluence with Casey Creek | +713 | Unincorporated Areas of Adair County.
Crooked Creek (backwater effects from Green River Lake) | From the confluence with Casey Creek to approximately 2.1 miles upstream of the confluence with Casey Creek | +713 | Unincorporated Areas of Adair County.
Crooked Creek Tributary 10 (backwater effects from Green River Lake) | From the confluence with Crooked Creek to approximately 0.2 mile upstream of the confluence with Crooked Creek | +713 | Unincorporated Areas of Adair County.
Denton Branch (backwater effects from Green River Lake) | From the confluence with Green River Lake to approximately 0.6 mile upstream of the confluence with Green River Lake | +713 | Unincorporated Areas of Adair County.
Green River (backwater effects from Green River Lake) | From the confluence with Green River Lake to approximately 3.5 miles upstream of the confluence with Green River Lake | +713 | Unincorporated Areas of Adair County.
Green River Lake | Entire shoreline | +713 | Unincorporated Areas of Adair County.
North White Oak Creek (backwater effects from Green River Lake) | From the confluence with Green River Lake to approximately 1.1 mile upstream of the confluence with Green River Lake | +713 | Unincorporated Areas of Adair County.
Snake Creek (backwater effects from Green River Lake) | From the confluence with Green River Lake to approximately 1.4 mile upstream of the confluence with Green River Lake | +713 | Unincorporated Areas of Adair County.
Spout Springs Branch (backwater effects from Green River Lake) | From the confluence with Green River Lake to approximately 2.1 miles upstream of the confluence with Green River Lake | +713 | Unincorporated Areas of Adair County.
West Butler Creek (backwater effects from Green River Lake) | From the confluence with Green River Lake to approximately 0.9 mile upstream of the confluence with Green River Lake | +713 | Unincorporated Areas of Adair County.
* National Geodetic Vertical Datum.
+ North American Vertical Datum.
# Depth in feet above ground.
‸ Mean Sea Level, rounded to the nearest 0.1 meter.
ADDRESSES
Unincorporated Areas of Adair County
Maps are available for inspection at 424 Public Square, Suite 1, Columbia, KY 42728.
Bath County, Kentucky, and Incorporated Areas
Docket No.: FEMA-B-1083
Caney Creek (backwater effects from Cave Run Lake) | From the confluence with Cave Run Lake to approximately 0.6 mile upstream of the confluence with Cave Run Lake | +747 | Unincorporated Areas of Bath County.
Cave Run Lake | Entire shoreline | +747 | Unincorporated Areas of Bath County.
Sulpher Branch (backwater effects from Cave Run Lake) | From the confluence with Cave Run Lake to 2,000 feet upstream of the confluence with Cave Run Lake | +747 | Unincorporated Areas of Bath County.
Trough Lick Branch (backwater effects from Cave Run Lake) | From the confluence with Cave Run Lake to 2,000 feet upstream of the confluence with Cave Run Lake | +747 | Unincorporated Areas of Bath County.
* National Geodetic Vertical Datum.
+ North American Vertical Datum.
# Depth in feet above ground.
‸ Mean Sea Level, rounded to the nearest 0.1 meter.
ADDRESSES
Unincorporated Areas of Bath County
Maps are available for inspection at 19 East Main Street, Owingsville, KY 40360.
Greene County, Missouri, and Incorporated Areas
Docket No.: FEMA-B-1056
Galloway Creek | Just downstream of the U.S. Route 60 Access Ramp | +1,154 | City of Springfield.
| Just upstream of East Seminole Street | +1,301
Jordan Creek | Just downstream of West Bennett Street | +1,223 | City of Springfield.
| Just upstream of North Washington Avenue | +1,277
Mount Pleasant Branch | Approximately 65 feet upstream of U.S. Route 160 | +1,186 | City of Willard.
North Branch Jordan Creek | Just downstream of East Brower Street | +1,281 | City of Springfield.
| Just upstream of North Yates Avenue | +1,356
North Fork Mount Pleasant Branch | Just downstream of U.S. Route 160 | +1,157 | City of Willard.
| Just upstream of U.S. Route 160 | +1,160
South Branch Jordan Creek | Just downstream of North Sherman Avenue | +1,283 | City of Springfield.
| Just upstream of North Patterson Avenue | +1,330
South Creek | Just downstream of U.S. Route 160 (County Route FF) | +1,162 | City of Springfield, Unincorporated Areas of Greene County.
| Just upstream of South Kickapoo Avenue | +1,307
Ward Branch | Just downstream of South Farm Road 139 | +1,114 | City of Springfield, Unincorporated Areas of Greene County.
| Just upstream of East Independence Street | +1,251
Yarbrough Creek | Just downstream of West Lakewood Street | +1,187 | City of Springfield, Unincorporated Areas of Greene County.
| Just upstream of South Campbell Avenue | +1,212
* National Geodetic Vertical Datum.
+ North American Vertical Datum.
# Depth in feet above ground.
‸ Mean Sea Level, rounded to the nearest 0.1 meter.
ADDRESSES
City of Springfield
Maps are available for inspection at 840 Boonville Avenue, Springfield, MO 65801.
City of Willard
Maps are available for inspection at 224 West Jackson Street, Willard, MO 65781.
Unincorporated Areas of Greene County
Maps are available for inspection at 940 Boonville Street, Springfield, MO 65802.
Cibola County, New Mexico, and Incorporated Areas
Docket No.: FEMA-B-1069
Grants Canyon Creek | At the confluence with the Rio San Jose | +6,429 | City of Grants.
| Approximately 900 feet upstream of Del Norte Boulevard | +6,495
Rio San Jose | Approximately 1,900 feet downstream of Burlington Northern Santa Fe Railroad | +6,412 | City of Grants, Unincorporated Areas of Cibola County, Village of Milan.
| Just upstream of Stanley Avenue | +6,533
Zuni Canyon | At the confluence with the Rio San Jose | +6,506 | Areas of Cibola County, Village of Milan.
| Approximately 0.5 mile upstream of North Quail Lane | +6,545
* National Geodetic Vertical Datum.
+ North American Vertical Datum.
# Depth in feet above ground.
‸ Mean Sea Level, rounded to the nearest 0.1 meter.
ADDRESSES
City of Grants
Maps are available for inspection at Code Enforcement, 600 West Santa Fe Avenue, Grants, NM 87020.
Unincorporated Areas of Cibola County
Maps are available for inspection at Rural Addressing, 515 West High Street, Grants, NM 87020.
Village of Milan
Maps are available for inspection at the Milan Court System Building, 628 Uranium Avenue, Milan, NM 87021.
Otero County, New Mexico, and Incorporated Areas
Docket Nos.: FEMA-B-1026 and FEMA-B-1078
Beeman Canyon Creek | Where the flow path meets the dam | +4,442 | City of Alamogordo, Unincorporated Areas of Otero County.
| Approximately 1,906 feet upstream of North Scenic Drive | +4,603
Cherokee Bill Canyon | Approximately 2.71 miles downstream of the intersection of U.S. Route 70 and White Tail Road | +6,699 | Mescalero Apache Indian Reservation.
| Approximately 2.61 miles downstream of the intersection of U.S. Route 70 and White Tail Road | +6,716
Flow Path #2 | Approximately 1,450 feet upstream of the dam | +4,449 | Unincorporated Areas of Otero County.
| Approximately 3,520 feet upstream of the dam | +4,481
Flow Path #3 | Approximately 741 feet downstream of Eddy Drive | +4,344 | Unincorporated Areas of Otero County.
| Approximately 51 feet upstream of Eddy Drive | +4,350
Flow Path #12 | Approximately 758 feet downstream of Octillo Lane | +4,471 | Unincorporated Areas of Otero County.
| Approximately 3,560 feet upstream of South Canyon Road | +4,670
Flow Path #16 | Approximately 461 feet downstream of Caneadea Loop | +4,461 | Unincorporated Areas of Otero County.
| Approximately 2,904 feet upstream of Rocky Mountain Road | +4,803
Flow Path #30 | At the City of Alamogordo corporate limits | +4,122 | City of Alamogordo, Unincorporated Areas of Otero County.
| Approximately 7,117 feet upstream of the City of Alamogordo corporate limits | +4,202
Flow Path #31 | Approximately 2,699 feet downstream of Lavelle Road | +4,270 | Unincorporated Areas of Otero County.
| Approximately 2,617 feet downstream of Lavelle Road | +4,270
* National Geodetic Vertical Datum.
+ North American Vertical Datum.
# Depth in feet above ground.
‸ Mean Sea Level, rounded to the nearest 0.1 meter.
ADDRESSES
City of Alamogordo
Maps are available for inspection at 1376 East 9th Street, Alamogordo, NM 88310.
Mescalero Apache Indian Reservation
Maps are available for inspection at 1000 New York Avenue, Alamogordo, NM 88310.
Unincorporated Areas of Otero County
Maps are available for inspection at 1000 New York Avenue, Alamogordo, NM 88310.
Grand Forks County, North Dakota, and Incorporated Areas
Docket No.: FEMA-B-1075
Red River of the North | Approximately 2,137 feet downstream of 13th Avenue Northeast extended | +837 | City of Grand Forks, Unincorporated Areas of Grand Forks County.
| Just downstream of the southern county boundary | +854
* National Geodetic Vertical Datum.
+ North American Vertical Datum.
# Depth in feet above ground.
‸ Mean Sea Level, rounded to the nearest 0.1 meter.
ADDRESSES
City of Grand Forks
Maps are available for inspection at 225 North 4th Street, Grand Forks, ND 58506.
Unincorporated Areas of Grand Forks County
Maps are available for inspection at 151 South 4th Street, Grand Forks, ND 58506.
Warren County, Ohio, and Incorporated Areas
Docket No.: FEMA-B-1075
Hoff Run | Just upstream of the confluence with the Great Miami River | +613 | City of Mason.
| Approximately 1,535 feet upstream of Eagle View Drive | +829
Little Miami River | Approximately 1.6 mile upstream of South Main Street | +634 | Village of South Lebanon.
Muddy Creek | Approximately 0.4 mile downstream of Mason-Morrow-Millgrove Road | +656 | City of Mason.
| Just downstream of Tylersville Road | +803
Muddy Creek Branch No. 1 | Approximately 575 feet downstream of U.S. Route 42 | +742 | City of Mason.
| Approximately 650 feet upstream of Mason Road | +819
Pine Run | Approximately 400 feet downstream of Kings Mill Road | +752 | City of Mason.
| Approximately 0.15 mile upstream of Tylersville Road | +857
Satterthwaites Run | Approximately 1,400 feet upstream of U.S. Route 42 | +767 | Unincorporated Areas of Warren County.
| Approximately 1,465 feet upstream of U.S. Route 42 | +768
Turtle Creek | Approximately 530 feet upstream of Mason-Morrow-Millgrove Road | +634 | Village of South Lebanon.
| Approximately 1,190 feet downstream of I-71 | +635
Twin Creek No. 2 | Just upstream of Pennyroyal Road | +874 | Unincorporated Areas of Warren County.
| Approximately 1,250 feet upstream of Pennyroyal Road | +882
* National Geodetic Vertical Datum.
+ North American Vertical Datum.
# Depth in feet above ground.
‸ Mean Sea Level, rounded to the nearest 0.1 meter.
ADDRESSES
City of Mason
Maps are available for inspection at 202 West Main Street, Mason, OH 45040.
Unincorporated Areas of Warren County
Maps are available for inspection at 406 Justice Drive, Room 167, Lebanon, OH 45036.
Village of South Lebanon
Maps are available for inspection at 99 North High Street, Lebanon, OH 45036.
Jasper County, Texas, and Incorporated Areas
Docket No.: FEMA-B-1080
Pin Oak Creek | Approximately 550 feet downstream of Lanier Street | +99 | Unincorporated Areas of Jasper County.
| Approximately 1,000 feet upstream of County Road 404 | +110
Sandy Creek | Just upstream of Burlington Northern Santa Fe Corporation Railroad | +214 | Unincorporated Areas of Jasper County.
| Approximately 0.5 mile upstream of Burlington Northern Santa Fe Corporation Railroad | +217
Trotti Creek | Just upstream of FM 2799 | +198 | Unincorporated Areas of Jasper County.
| Just downstream of County Road 128 | +204
Trotti Creek | Approximately 450 feet upstream of FM 2800 | +240 | Unincorporated Areas of Jasper County.
| Approximately 0.7 mile upstream of FM 2800 | +244
Trout Creek | Approximately 481 feet downstream of the confluence with Pin Oak Creek | +99 | Unincorporated Areas of Jasper County.
| Approximately 0.72 mile upstream of U.S. Route 96 | +105
* National Geodetic Vertical Datum.
+ North American Vertical Datum.
# Depth in feet above ground.
‸ Mean Sea Level, rounded to the nearest 0.1 meter.
ADDRESSES
Unincorporated Areas of Jasper County
Maps are available for inspection at 121 North Austin Street, Room 106, Jasper, TX 75951.
Kendall County, Texas, and Incorporated Areas
Docket No.: FEMA-B-1080
Cibolo Creek | Approximately 2 miles upstream of the confluence with Balcones Creek | +1,301 | Unincorporated Areas of Kendall County.
| Approximately 2.6 miles upstream of the confluence with Balcones Creek | +1,309
Guadalupe River | Just upstream of FM 3351 | +1,122 | Unincorporated Areas of Kendall County.
| Approximately 1,750 feet upstream of Gourly Road | +1,164
Ranger Creek | Approximately 2.5 miles upstream of the confluence with Cibolo Creek | +1,552 | Unincorporated Areas of Kendall County.
| Approximately 4.2 miles upstream of the confluence with Cibolo Creek | +1,655
Spring Creek | At the confluence with the Guadalupe River | +1,150 | Unincorporated Areas of Kendall County.
| Approximately 0.6 mile downstream of the confluence with Black Creek | +1,176
* National Geodetic Vertical Datum.
+ North American Vertical Datum.
# Depth in feet above ground.
‸ Mean Sea Level, rounded to the nearest 0.1 meter.
ADDRESSES
Unincorporated Areas of Kendall County
Maps are available for inspection at 201 East San Antonio Drive, Suite 122, Boerne, TX 78006.
Van Zandt County, Texas, and Incorporated Areas
Docket No.: FEMA-B-1078
Mill Creek | Approximately 400 feet upstream of State Highway 64 | +457 | Unincorporated Areas of Van Zandt County.
| Just downstream of State Highway 243 | +467
* National Geodetic Vertical Datum.
+ North American Vertical Datum.
# Depth in feet above ground.
‸ Mean Sea Level, rounded to the nearest 0.1 meter.
ADDRESSES
Unincorporated Areas of Van Zandt County
Maps are available for inspection at 121 East Dallas Street, Room 204, Canton, TX 75103.
Alleghany County, Virginia, and Incorporated Areas
Docket No.: FEMA-B-1076
Jackson River | Approximately 1.1 mile downstream of State Route 18 | +1,187 | City of Covington.
| Approximately 1,200 feet upstream of the confluence with Dry Run Branch | +1,246
* National Geodetic Vertical Datum.
+ North American Vertical Datum.
# Depth in feet above ground.
‸ Mean Sea Level, rounded to the nearest 0.1 meter.
ADDRESSES
City of Covington
Maps are available for inspection at City Hall, 333 West Locust Street, Covington, VA 24426.
Botetourt County, Virginia, and Incorporated Areas
Docket No.: FEMA-B-1076
Cowpasture River Reach 1 | At the county boundary | +1,014 | Unincorporated Areas of Botetourt County.
| At the confluence with the James River | +1,014
Cowpasture River Reach 2 | Approximately 1,300 feet downstream of the downstream county boundary | +1,030 | Unincorporated Areas of Botetourt County.
| At the upstream county boundary | +1,042
Jackson River | At the confluence with the James River | +1,014 | Unincorporated Areas of Botetourt County.
| At the county boundary | +1,014
* National Geodetic Vertical Datum.
+ North American Vertical Datum.
# Depth in feet above ground.
‸ Mean Sea Level, rounded to the nearest 0.1 meter.
ADDRESSES
Unincorporated Areas of Botetourt County
Maps are available for inspection at the Botetourt County Courthouse, 1 West Main Street, Fincastle, VA 24090.
Crawford County, Wisconsin, and Incorporated Areas
Docket No.: FEMA-B-1075
Baker Creek | Approximately 590 feet downstream of the confluence with Unnamed Tributary to Baker Creek | +758 | Village of Soldiers Grove.
| Approximately 230 feet downstream of U.S. Route 61 | +778
Kickapoo River | Approximately 1 mile upstream of State Highway 179 | +672 | Unincorporated Areas of Crawford County, Village of Steuben.
| Approximately 3,190 feet upstream of Bridge Street | +676
| Approximately 1,540 feet upstream of County Highway S | +695
| Approximately 1.75 mile upstream of State Highway 171 | +705
| Approximately 0.8 mile upstream of Trout Creek Road | +734
Mississippi River | Approximately at River Mile Marker 636 | +629 | City of Prairie Du Chien, Unincorporated Areas of Crawford County,Village of De Soto, Village of Ferryville, Village of Lynxville.
| Approximately 4.25 miles upstream of State Highway 82 | +633
Unnamed Tributary to Baker Creek | Approximately 3,075 feet upstream of U.S. Route 61 | +902 | Unincorporated Areas of Crawford County.
Wisconsin River | Approximately 205 feet downstream of River Mile Marker 15 | +640 | Village of Wauzeka.
| Approximately 1,245 feet upstream of River Mile Marker 17 | +643
* National Geodetic Vertical Datum.
+ North American Vertical Datum.
# Depth in feet above ground.
‸ Mean Sea Level, rounded to the nearest 0.1 meter.
ADDRESSES
City of Prairie Du Chien
Maps are available for inspection at 214 East Blackhawk Avenue, Prairie Du Chien, WI 53821.
Unincorporated Areas of Crawford County
Maps are available for inspection at 225 North Beaumont Road, Prairie Du Chien, WI 53821.
Village of De Soto
Maps are available for inspection at 115 South Houghton Street, De Soto, WI 54624.
Village of Ferryville
Maps are available for inspection at 170 Pine Street, Ferryville, WI 54628.
Village of Lynxville
Maps are available for inspection at 475 Bench Street, Lynxville, WI 54626.
Village of Soldiers Grove
Maps are available for inspection at 102 Passive Sun Drive, Soldiers Grove, WI 54655.
Village of Steuben
Maps are available for inspection at 123 Midway Street, Steuben, WI 54657.
Village of Wauzeka
Maps are available for inspection at 213B East Front Street, Wauzeka, WI 53826.

(Catalog of Federal Domestic Assistance No. 97.022, “Flood Insurance.”)

Dated: December 7, 2010.
Sandra K. Knight,
Deputy Federal Insurance and Mitigation Administrator, Mitigation, Department of Homeland Security, Federal Emergency Management Agency.

[FR Doc. 2010-31360 Filed 12-13-10; 8:45 am]

BILLING CODE 9110-12-P